DEPARTMENT OF AGRICULTURE

Forest Service

John Day/Snake Resource Advisory Council, Hells Canyon Subgroup

AGENCY: Forest Service, USDA.

ACTION: Notice of meeting.

SUMMARY: The Hells Canyon Subgroup of the John Day/Snake Resource Advisory Council will meet on September 14 and 15, 2002 at the Forest Service Administrative Site, Pittsburgh Landing. The meeting will begin at 9 a.m. and continue until 5 p.m. the first day and will begin at 8 a.m. on the second day and adjourn by 2 p.m. the final day. Agenda items to be covered include: (1) Fee Demo, (2) Adopt-A-Beach, (3) Open public forum. All meetings are open to the public. Public comments will be received September 14, 2001 at 10 a.m. at the Pittsburgh Administrative Site.

FOR FURTHER INFORMATION CONTACT: Direct questions regarding this meeting to Kendall Clark, Area Ranger, USDA, Hells Canyon National Recreation Area, 88401 Highway 82, Enterprise, OR 97828, 541-426-5501.

Dated: August 2, 2002.
Karyn L. Wood,
Forest Supervisor.

[FR Doc. 02-20129 Filed 8-8-02; 8:45 am]

BILLING CODE 3410-11-M